DEPARTMENT OF DEFENSE

Department of the Army

Notice of Availability of Government-Owned Inventions; Available for Licensing

AGENCY: Department of the Army, DoD.

ACTION: Notice.

SUMMARY: The inventions listed below are assigned to the United States (U.S.) Government as represented by the Secretary of the Army and are available for licensing by the Department of the Army (DoA):

• U.S. Patent Number 7,812,366 entitled “Ultraviolet Light Emitting AlGaN Composition, and Ultraviolet Light Emitting Device Containing Same”, Inventors Sampath et al., Issue date October 12, 2010.

• U.S. Patent Number 8,564,014 entitled “Ultraviolet Light Emitting AlGaN Composition and Ultraviolet Light Emitting Device Containing Same”, Inventors Sampath et al., Issue date October 22, 2013.

• U.S. Patent 7,498,182 entitled “Method of Manufacturing an AlGaN Composition and Ultraviolet Light Emitting Device Containing Same”, Inventors Sampath et al., Issue Date March 3, 2009.

The novel claims of these patents are not specific to the growth method used in the production of Ultraviolet (UV) Light Emitting Diodes (LEDs) and apply to any Aluminum Gallium Nitride (AlGaN) composition containing self-assembled nanometer-scale compositional inhomogeneities that are localized in more than one dimension, and includes wells, dots, and wires. These patents are relevant to a large portion of semiconductor UV LED industry, which employ some degree of nanoscale compositional inhomogeneity to enhance ultraviolet light emission, regardless of growth method. Further, a semiconductor UV light emitting device having an active region layer comprised of the AlGaN composition is provided, as well as a method of producing the AlGaN composition and semiconductor UV light emitting device, involving molecular beam epitaxy.

DATES: Request for supplemental information should be made prior to March 31, 2018.

ADDRESSES: Request for supplemental information, including licensing application packages and procedures should be directed to John Millemaci, 301-645-6637, jmillemaci@etcmd.com, Energetics Technology Center (ETC), 4185 Indian Head Highway, Indian Head, MD 20640.

FOR FURTHER INFORMATION CONTACT: U.S. Army Research Laboratory Technology Transfer Office, RDRL-DPP/Thomas Mulkern, Building 321 Room 110, Aberdeen Proving Ground, MD 21005-5425. Phone: (410) 278-0889, Email: ORTA@arl.army.mil.

SUPPLEMENTARY INFORMATION: The U.S. Army intends to move expeditiously to license these inventions. Licensing application packages are available from ETC and all applications and commercialization plans must be returned to ETC by May 1, 2018. ETC is an authorized Department of Defense Partnership Intermediary per Authority 15 U.S.C. 3715. ETC will turn over all completed applications to the U.S. Army for evaluation by May 28, 2017, with final negotiations and awards occurring during the months of June and July, 2018. The U.S. Army will consider requests for nonexclusive, partially exclusive, and fully exclusive licenses in the U.S. and may prefer to grant an exclusive license to a company capable of broad commercialization as well as patent maintenance and enforcement within the U.S.

The DoA intends to ensure that its licensed inventions are broadly commercialized throughout the United States.

Brenda S. Bowen,
Army Federal Register Liaison Officer.

[FR Doc. 2018-00609 Filed 1-12-18; 8:45 am]

BILLING CODE 5001-03-P